INTERNATIONAL TRADE COMMISSION

[Investigation Nos. 701-TA-564 and 731-TA-1338-1340 (Review)]

Steel Concrete Reinforcing Bar From Japan, Taiwan, and Turkey

Determination

On the basis of the record ¹ developed in the subject five-year reviews, the United States International Trade Commission (“Commission”) determines, pursuant to the Tariff Act of 1930 (“the Act”), that revocation of the countervailing duty order on steel concrete reinforcing bar (“rebar”) from Turkey and revocation of the antidumping duty orders on rebar from Japan, Taiwan, and Turkey would be likely to lead to continuation or recurrence of material injury to an industry in the United States within a reasonably foreseeable time.

¹ The record is defined in § 207.2(f) of the Commission's Rules of Practice and Procedure (19 CFR 207.2(f)).

Background

The Commission instituted these reviews on June 1, 2022 (87 FR 33206) and determined on September 6, 2022 that it would conduct expedited reviews (87 FR 77636, December 19, 2022).

The Commission made these determinations pursuant to section 751(c) of the Act (19 U.S.C. 1675(c)). It completed and filed its determinations in these reviews on January 24, 2023. The views of the Commission are contained in USITC Publication 5400 (January 2023), entitled Steel Concrete Reinforcing Bar from Japan, Taiwan, and Turkey: Investigation Nos. 701-TA-564 and 731-TA-1338-1340 (Review).

By the order of the Commission.
Issued: January 24, 2023.
Katherine Hiner,
Acting Secretary to the Commission.

[FR Doc. 2023-01756 Filed 1-27-23; 8:45 am]

BILLING CODE 7020-02-P